DEPARTMENT OF TRANSPORTATION

Surface Transportation Board

[STB Finance Docket No. 33944]

Texas Pacifico Transportation, Ltd.—Lease ¹ and Operation Exemption—State of Texas

¹ The filed notice is captioned as an “acquisition” and operation exemption, but the described transaction involves a lease. Accordingly, this notice has been re-captioned to reflect the lease.

Texas Pacifico Transportation, Ltd. (Pacifico), a noncarrier Texas limited partnership, has filed a notice of exemption under 49 CFR 1150.31 to lease from the State of Texas, acting by and through the Texas Department of Transportation (TxDOT), and to operate as a common carrier approximately 370.5 miles of rail line in Brewster, Coleman, Crane, Crockett, Irion, Pecos, Presidio, Reagan, Runnels, Tom Green, and Upton Counties, TX.² Pacifico would acquire the right to operate between milepost 1029.1 on the International Bridge near Presidio, TX, and milepost 956.7 at Paisano Junction, and between milepost 945.3, at Alpine Junction, and milepost 0 + 330 feet, near San Angelo Junction on the east, and Lampasas Subdivision milepost 373 + 4362 feet, near San Angelo Junction on the west. According to Pacifico, SORC has assigned to Pacifico, with the consent of the Union Pacific Railroad Company (UP), SORC's trackage rights over an additional 11.4 miles of UP line located between milepost 956.7 at Paisano Junction and milepost 945.3 at Alpine Junction. The operations by Pacifico would thus extend over approximately 381.9 miles. Pacifico states that its projected revenues will not exceed those of a Class III rail carrier as a result of this transaction.³

² TxDOT acquired the rail line between milepost 1029.1 and milepost 956.7 from South Orient Railroad Company, Ltd. (SORC), pursuant to the transaction that was the subject of a notice of exemption in State of Texas Acting by and Through the Texas Department of Transportation—Acquisition and Operation Exemption—South Orient Railroad Company, Ltd., STB Finance Docket No. 33946 (STB served Nov. 2, 2000).

³ Earlier this year, Pacifico had evidently planned to acquire SORC's rights to operate over these lines directly from SORC. See Texas Pacifico Transportation, Ltd.—Acquisition and Operation Exemption—South Orient Railroad Company, Ltd., STB Finance Docket No. 33851 (STB served Mar. 3, 2000). According to Pacifico, the previously authorized transaction was never consummated and did not result in the initiation of railroad operations.

The transaction was expected to be consummated on or after November 29, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33944, must be filed with the Surface Transportation Board, Office of the Secretary, Case Control Unit, 1925 K Street, NW, Washington, DC 20423-0001. In addition, a copy of each pleading must be served on Fritz R. Kahn, Esq., 1920 N Street, NW (8th floor), Washington, DC 20036-1601.

Board decisions and notices are available on our website at “www.stb.dot.gov.”

Decided: December 4, 2000.
By the Board, David M. Konschnik, Director, Office of Proceedings.
Vernon A. Williams,
Secretary.

[FR Doc. 00-31343 Filed 12-8-00; 8:45 am]

BILLING CODE 4915-00-P